DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in the City of Alexandria, VA and the City of Jersey City, NJ. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of FTA actions announced herein for the listed public transportation projects will be barred unless the claim is filed on or before April 17, 2017.

FOR FURTHER INFORMATION CONTACT: Nancy-Ellen Zusman, Assistant Chief Counsel, Office of Chief Counsel, (312) 353-2577 or Meghan Kelley, Environmental Protection Specialist, Office of Environmental Programs, (202) 366-6098. FTA is located at 1200 New Jersey Avenue SE., Washington, DC 20590. Office hours are from 9:00 a.m. to 5:00 p.m., Monday through Friday, except Federal holidays.

SUPPLEMENTARY INFORMATION: Notice is hereby given that FTA has taken final agency actions by issuing certain approvals for the public transportation projects listed below. The actions on the projects, as well as the laws under which such actions were taken, are described in the documentation issued in connection with the projects to comply with the National Environmental Policy Act (NEPA) and in other documents in the FTA administrative record for the projects. Interested parties may contact either the project sponsor or the relevant FTA Regional Office for more information. Contact information for FTA's Regional Offices may be found at https://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The projects and actions that are the subject of this notice are:

1. Project name and location: Long Slip Fill and Rail Enhancement Project, City of Jersey City, NJ. Project sponsor: New Jersey Transit Corporation (NJ TRANSIT). Project description: The proposed project would fill the Long Slip Canal in Hoboken Yard and construct six new elevated tracks, passenger platforms, and a passenger station and crew facility structure on top of the filled canal. The project would also include a walkway extension to existing Hoboken Terminal facilities and new track extensions to existing track. Final agency actions: Section 4(f) de minimis impact determination; Section 106 finding of no adverse effect; project-level air quality conformity; and a Finding of No Significant Impact, dated October 20, 2016. Supporting Documentation: Supplemental Environmental Assessment, dated June 2016.

2. Project name and location: Potomac Yard Metrorail Station Project, City of Alexandria, VA. Project sponsor: City of Alexandria. Project description: The proposed project would include a new Washington Metropolitan Area Transit Authority Metrorail station, associated track improvements, and pedestrian bridges at Potomac Yard within the City of Alexandria. The station would be located along the existing Metrorail Blue and Yellow Lines between the Ronald Regan Washington National Airport Metrorail Station and the Braddock Road Metrorail Station. Final agency actions: Section 4(f) determination; a Section 106 Memorandum of Agreement, dated October 24, 2016; project-level air quality conformity; and a Record of Decision, dated October 31, 2016. Supporting documentation: Final Environmental Impact Statement, dated June 1, 2016.

Lucy Garliauskas,
Associate Administrator Planning and Environment.

[FR Doc. 2016-27575 Filed 11-16-16; 8:45 am]

BILLING CODE 4910-57-P